DEPARTMENT OF DEFENSE

Office of the Secretary

[Transmittal Nos. 14-37]

36(b)(1) Arms Sales Notification

AGENCY: Department of Defense, Defense Security Cooperation Agency.

ACTION: Notice.

SUMMARY: The Department of Defense is publishing the unclassified text of a section 36(b)(1) arms sales notification. This is published to fulfill the requirements of section 155 of Public Law 104-164 dated July 21, 1996.

FOR FURTHER INFORMATION CONTACT: Ms. B. English, DSCA/DBO/CFM, (703) 601-3740.

The following is a copy of a letter to the Speaker of the House of Representatives, Transmittals 14-37 with attached transmittal and policy justification.

Dated: October 14, 2014.
Aaron Siegel,
Alternate OSD Federal Register Liaison Officer, Department of Defense.

Transmittal No. 14-37

Notice of Proposed Issuance of Letter of Offer Pursuant to Section 36(b)(1) of the Arms Export Control Act, as amended

(i) Prospective Purchaser: Brunei

(ii) Total Estimated Value:

Major Defense Equipment * | $147 million.
Other | $196 million.
Total | $343 million.
* As defined in Section 47(6) of the Arms Export Control Act.

(iii) Description and Quantity or Quantities of Articles or Services under Consideration for Purchase: 1 C-130J aircraft, 6 AE2100D3 turboprop engines (4 installed and 2 spares), Government Furnished Equipment, communication equipment, spare and repair parts, support and test equipment, publications and technical documentation, personnel training and training equipment, U.S. Government and contractor engineering, technical and logistics support services, and other related elements of logistical and program support.

(iv) Military Department: Air Force (SBB)

(v) Prior Related Cases, if any: None

(vi) Sales Commission, Fee, etc., Paid, Offered, or Agreed to be Paid: None

(vii) Sensitivity of Technology Contained in the Defense Article or Defense Services Proposed to be Sold: None

(viii) Date Report Delivered to Congress: 06 October 2014.

POLICY JUSTIFICATION

Brunei—C-130J Aircraft

The Government of Brunei has requested a sale of 1 C-130J aircraft, 6 AE2100D3 turboprop engines (4 installed and 2 spares), Government Furnished Equipment, communication equipment, spare and repair parts, support and test equipment, publications and technical documentation, personnel training and training equipment, U.S. Government and contractor engineering, technical and logistics support services, and other related elements of logistical and program support. The estimated cost is $343 million.

This proposed sale will contribute to the foreign policy and national security of the United States by helping to strengthen the U.S.-Brunei relationship, which has been a force for regional stability and economic progress in Southeast Asia.

This proposed sale of a C-130J to Brunei will provide a critical capability to assist in Humanitarian Assistance and Disaster Relief missions. The aircraft will enable Brunei to provide aid and assistance in greater capacities to regional allies and partners in need. The aircraft will also provide the ability to execute maritime patrol missions and contribute to search and rescue missions in the region. Brunei should have no difficulty absorbing this aircraft into its inventory.

The proposed sale of this aircraft and support will not alter the basic military balance in the region.

The principal contractor will be Lockheed Martin-Aerospace in Marietta, Georgia. There are no known offset agreements in connection with this potential sale.

Implementation of this proposed sale will not require the assignment of any additional U.S. Government or contractor representatives to Brunei.

There will be no adverse impact on U.S. defense readiness as a result of this proposed sale.

[FR Doc. 2014-24715 Filed 10-16-14; 8:45 am]

BILLING CODE 5001-06-P